ENVIRONMENTAL PROTECTION AGENCY

[EPA-HQ-ORD-2009-0114; FRL-8959-5]

Agency Information Collection Activities; Submission to OMB for Review and Approval; Comment Request; Questionnaire for Drinking Water Utilities Participating in Emerging Contaminant Sampling Program (New); EPA ICR No. 2346.01 OMB Control No. 2080—NEW

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before October 19, 2009.

ADDRESSES: Submit your comments, referencing Docket ID No. EPA-HQ-ORD-2009-0114, to (1) EPA online using http://www.regulations.gov (our preferred method), by e-mail ord.docket@epa.gov, or by mail to: EPA Docket Center, Environmental Protection Agency, Office of Research and Development Docket, Mail Code 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Susan T. Glassmeyer, Ph.D., Environmental Protection Agency, Office of Research and Development, National Exposure Research Laboratory, 26 W. Martin Luther King Dr, MS 564, Cincinnati, OH 45268; telephone number: 513-569-7526; fax number 513-569-7757; e-mail address: glassmeyer.susan@epa.gov.

SUPPLEMENTARY INFORMATION: EPA has submitted the following ICR to OMB for review and approval according to the procedures prescribed in 5 CFR 1320.12. On April 8, 2009 (74 FR 15965), EPA sought comments on this ICR pursuant to 5 CFR 1320.8(d). EPA received three comments during the comment period, which are addressed in the ICR. Any additional comments on this ICR should be submitted to EPA and OMB within 30 days of this notice.

EPA has established a public docket for this ICR under Docket ID No. EPA-HQ-ORD-2009-0114, which is available for online viewing at http://www.regulations.gov, or in person viewing at the Research and Development Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Research and Development Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Questionnaire for Drinking Water Utilities Participating in Emerging Contaminant Sampling Program (New).

ICR numbers: EPA ICR No. 2346.01, OMB Control No. 2080-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Improvements in analytical chemistry instrumentation have allowed scientists to detect trace amounts of chemicals that are commonly used in homes in the environment. These so-called “emerging contaminants” are chemicals, such as pharmaceuticals, personal care products, detergents and even endogenous hormones, which are either excreted from or washed off the body, and enter the wastewater treatment system. Wastewater treatment is not designed to specifically remove these chemicals, so a portion of the chemicals remain in wastewater treatment plant (WWTP) effluents. WWTP effluents are commonly released into surface waters. Natural processes such as photolysis, sorption, volatilization, degradation, and simple dilution further attenuate the concentrations of emerging contaminants. However, if a Drinking Water Treatment Plant (DWTP) intake is located downstream of a WWTP effluent outfall, there is a potential for these chemicals to be present in finished drinking water.

The USEPA's Office of Research and Development, in collaboration with the U.S. Geological Survey (USGS), is conducting a sampling program at up to 50 DWTPs to determine the presence of these emerging contaminants in both the source water and finished drinking water. To better interpret the results of the sampling program, detailed information concerning the operation of the DWTP at the time of sampling is required. This information can only be gathered through a questionnaire that is completed concurrent to the collection event. The questionnaire will collect information on the following:

• The population served by the DWTP;

• The source water, potential sources of pollution and current hydraulic conditions;

• Detailed treatment steps used by the DWTP, including parameters such as pumpage at sampling, disinfectants used, and distribution system information;

• Detailed water quality parameters at the time of sampling.

The DWTPs involved in this project will ship samples of their source water and finished water to the USEPA and USGS laboratories. All sampling supplies and paid shipping vouchers will be provided to the DWTPs. The samples will be analyzed by the USEPA and USGS for a suite of approximately 200 emerging chemical and microbial contaminants. A detailed listing of the analytes, as well as the methods to be used can be found in public docket for this ICR under Docket ID No. EPA-HQ-ORD-2009-0114.

Burden Statement: The annual public reporting and recordkeeping burden for this collection of information is estimated to average 20 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Drinking Water Treatment Plants (DWTPs) participating in a EPA/USGS sampling program.

Estimated Number of Respondents: 50.

Frequency of Response: Once.

Estimated Total Annual Hour Burden: 1,000.

Estimated Total Annual Cost: $29,735, includes $250 annualized capital or O&M costs.

Changes in the Estimates: Because this is a new ICR, there is no burden currently identified in the OMB Inventory of Approved ICR Burdens.

Dated: September 15, 2009.
John Moses,
Director, Collection Strategies Division.

[FR Doc. E9-22569 Filed 9-17-09; 8:45 am]

BILLING CODE 6560-50-P